ARCHITECTURAL AND TRANSPORTATION BARRIERS COMPLIANCE BOARD

Courthouse Access Advisory Committee

AGENCY: Architectural and Transportation Barriers Compliance Board.

ACTION: Notice of intent to establish advisory committee.

SUMMARY: The Architectural and Transportation Barriers Compliance Board (Access Board) announces its intent to establish a Courthouse Access Advisory Committee (Committee) to advise the Access Board on issues related to the accessibility of courthouses covered by the Americans with Disabilities Act of 1990 and the Architectural Barriers Act of 1968. The Access Board requests applications for representatives to serve on the Committee.

DATES: Applications should be received by August 24, 2004.

ADDRESSES: Applications should be sent to the attention of Ms. Rose Bunales, Architectural and Transportation Barriers Compliance Board, 1331 F Street, NW., suite 1000, Washington, DC 20004-1111. Fax number (202) 272-0081. Applications may also be sent via electronic mail to the Access Board at the following address: CAAC@access-board.gov.

FOR FURTHER INFORMATION CONTACT: Elizabeth Stewart, Deputy General Counsel, Architectural and Transportation Barriers Compliance Board, 1331 F Street, NW., suite 1000, Washington, DC 20004-1111. Telephone number (202) 272-0042 (Voice); (202) 272-0082 (TTY).

SUPPLEMENTARY INFORMATION:

Availability of Copies and Electronic Access

Single copies of this publication may be obtained at no cost by calling the Access Board's automated publications order line (202) 272-0080, by pressing 2 on the telephone keypad, then pressing 1, and requesting publication S-44 (Courthouse Access Advisory Committee notice). Persons using a TTY should call (202) 272-0082. Please record a name, address, telephone number and request publication S-44. This document is available in alternate formats upon request. Persons who want a copy in an alternate format should specify the type of format (cassette tape, Braille, large print, or computer disk). This document is also available on the Board's Internet site (http://www.access-board.gov/courthouse.htm).

Background

Americans with Disabilities Act

The Architectural and Transportation Barriers Compliance Board (Access Board) is responsible for developing accessibility guidelines under the Americans with Disabilities Act (ADA) of 1990 (42 U.S.C. 12101 et seq.) to ensure that facilities and vehicles covered by the law are readily accessible to and usable by individuals with disabilities.¹ The Department of Justice is responsible for issuing final regulations, consistent with the guidelines issued by the Access Board, to implement titles II and III (except for transportation vehicles and facilities). The Department of Transportation is responsible for issuing regulations to implement the transportation provisions of titles II and III of the ADA. Those regulations must also be consistent with the Access Board's guidelines.

¹ The Access Board is an independent Federal agency established by section 502 of the Rehabilitation Act (29 U.S.C. 792) whose primary mission is accessibility for individuals with disabilities. The Access Board consists of 25 members. Thirteen are appointed by the President from among the public, a majority of whom are required to be individuals with disabilities. The other twelve are heads of the following Federal agencies or their designees whose positions are Executive Level IV or above: The departments of Health and Human Services, Education, Transportation, Housing and Urban Development, Labor, Interior, Defense, Justice, Veterans Affairs, and Commerce; the General Services Administration; and the United States Postal Service.

On July 26, 1991, the Access Board published the Americans with Disabilities Act Accessibility Guidelines (ADAAG) for new construction and alterations in places of public accommodation and commercial facilities 36 CFR part 1191. ADAAG contains scoping provisions and technical specifications generally applicable to buildings and facilities (sections 1 through 4) and additional requirements specifically applicable to certain types of buildings and facilities covered by title III of the ADA: Restaurants and cafeterias (section 5); medical care facilities (section 6); mercantile and business facilities (section 7); libraries (section 8); and transient lodging (section 9). On September 6, 1991, the Access Board amended ADAAG to include additional requirements specifically applicable to transportation facilities (section 10).

On January 13, 1998, the Access Board published a final rule in the Federal Register which added two special application sections to ADAAG specifically applicable to certain types of State and local government buildings and facilities covered by title II of the ADA. (63 FR 2000) Those special application sections included section 11, which addresses Judicial, Legislative, and Regulatory Facilities and section 12, Detention and Correctional Facilities.

Architectural Barriers Act

The Architectural Barriers Act of 1968 (ABA) (42 U.S.C. 4151 et seq.) requires that facilities designed, built, altered or leased with certain Federal funds be accessible to persons with disabilities. Similar to its responsibility under the ADA, the Access Board is responsible for developing accessibility guidelines for facilities covered by the ABA. The Board's guidelines serve as the basis for enforceable standards issued by four standard-setting agencies; the standard-setting agencies are the Department of Defense (DOD), the General Services Administration (GSA), the Department of Housing and Urban Development (HUD), and the U.S. Postal Service (USPS). The Uniform Federal Accessibility Standards (UFAS) were developed by the four standard-setting agencies to implement the Architectural Barriers Act of 1968. Most Federal agencies also reference UFAS as the accessibility standard for buildings and facilities constructed or altered by recipients of Federal financial assistance for purposes of section 504 of the Rehabilitation Act of 1973, as amended.

In addition to its responsibilities to establish minimum guidelines for facilities covered by the ABA, the Access Board is also charged with enforcing the standards issued by the four standard-setting agencies. (29 U.S.C. 792(b)(1).)

Courthouse Access Advisory Committee

In February of this year, the Access Board announced that it will undertake outreach activities that highlight accessibility within a particular sphere or focus area. Outreach efforts will aim to increase awareness of a particular aspect of accessibility through partnerships with interested stakeholders and the development and distribution of information and guidance materials. The goal of this program is to increase the visibility of different facets of accessibility in a manner that supplements the Board's technical assistance and training programs, builds partnerships with other entities, improves compliance with access requirements, and showcases best practices for accessible design. In choosing access to courthouses as its first focus topic, the Board gave priority to an area that has been problematic or not well understood and where supplementary guidance is needed. Elevated spaces within courtrooms, such as judges' benches and witness stands, and space limitations within the well of the court have posed challenges to designers as to how access can best be achieved. In addition, there are known and potential design solutions for achieving access to courtroom spaces that bear further exploration. The Board plans to collaborate with agencies that oversee the construction of courthouses, such as the General Services Administration, on addressing these and other issues. The information to be developed will be relevant to Federal courthouses covered by the Architectural Barriers Act and State and county courthouses covered by the Americans with Disabilities Act.

As part of the outreach efforts on courthouse accessibility, the Access Board intends to establish a Federal advisory committee to advise the Access Board on issues related to the accessibility of courthouses, particularly courtrooms, including best practices, design solutions, promotion of accessible features, educational opportunities, and the gathering of information on existing barriers, practices, recommendations, and guidelines. (The Committee will not be making recommendations on agency rulemaking). The Committee will be expected to present a report with its recommendations to the Access Board. The Access Board requests applications for representatives of the following interests for membership on the Committee:

• Federal agencies (ex-officio membership);

• Design professional organizations;

• Judges and court administrators;

• State and local government agencies;

• Standards setting organizations;

• Organizations representing the access needs of individuals with disabilities; and

• Other persons affected by courthouse accessibility.

The number of Committee members will be limited to effectively accomplish the Committee's work and will be balanced in terms of interests represented. Organizations with similar interests are encouraged to submit a single application to represent their interest. Although the Committee will be limited in size, there will be opportunities for the public to present written information to the Committee, to participate through subcommittees, and to comment at Committee meetings.

Applications should be sent to the Access Board at the address listed at the beginning of this notice. The application should include the representative's name (and an alternate), title, address and telephone number; a statement of the interests represented; and a description of the representative's qualifications, including technical and design expertise; knowledge of making courthouses accessible to individuals with disabilities; and familiarity with judicial and court administration.

Committee members will not be compensated for their service. The Access Board may, at its own discretion, pay travel expenses for a limited number of persons who would otherwise be unable to participate on the Committee. Committee members will serve as representatives of their organizations, not as individuals. They will not be considered special government employees and will not be required to file confidential financial disclosure reports.

After the applications have been reviewed, the Access Board will publish a notice in the Federal Register announcing the appointment of Committee members and the first meeting of the Committee. The first meeting of the Committee is tentatively scheduled for November 4th and 5th, 2004, in Washington, DC. The Committee will operate in accordance with the Federal Advisory Committee Act, 5 U.S.C. app 2. Each meeting will be open to the public. A notice of each meeting will be published in the Federal Register at least 15 days in advance of the meeting. Records will be kept of each meeting and made available for public inspection.

Lawrence W. Roffee,
Executive Director.

[FR Doc. 04-14514 Filed 6-24-04; 8:45 am]

BILLING CODE 8150-01-P